DEPARTMENT OF THE INTERIOR

National Park Service

[NPS-WASO-NRNHL-21759; PPWOCRADI0, PCU00RP14.R50000]

National Register of Historic Places; Notification of Pending Nominations and Related Actions

AGENCY: National Park Service, Interior.

ACTION: Notice.

SUMMARY: The National Park Service is soliciting comments on the significance of properties nominated before August 6, 2016, for listing or related actions in the National Register of Historic Places.

DATES: Comments should be submitted by September 19, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before August 6, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Regency House, 2323 N. Central Ave., Phoenix, 16000630

Yavapai County

Beaver Creek School, 4810 E. Beaver Creek Rd., Rimrock, 16000631

CALIFORNIA

Los Angeles County

Covina Bowl, 1060 W. San Bernardino Rd., Covina, 16000633

Monterey County

Walker, Mrs. Clinton, House, Scenic Rd. approx. ¼ mi. SW. of Martin Way, Carmel-by-the-Sea, 16000634

Riverside County

Hamrick House, 875 W. Chino Canyon Rd., Palm Springs, 16000635

San Luis Obispo County

Montebello (shipwreck and remains), Address Restricted, Cambria, 16000636

Sonoma County

Carrillo, Maria, Adobe, Address Restricted, Santa Rosa, 16000632

COLORADO

Kiowa County

Sand Creek Massacre Site (Boundary Increase), Jct. of Cty. Rds. 54 & W, Eads, 16000637

DISTRICT OF COLUMBIA

District of Columbia

Glenwood Cemetery, 2219 Lincoln Rd. NE., Washington, 16000638

GEORGIA

DeKalb County

Lithonia Historic District, Centered on jct. of CSX RR. & Main St., Lithonia, 16000639

IOWA

Cass County

Hotel Whitney, 222 Chestnut St., Atlantic, 16000640

Woodbury County

Sioux City Central High School and Central Annex (Boundary Increase), 1212 Nebraska & 1121 Jackson Sts., Sioux City, 16000641

NEW HAMPSHIRE

Carroll County

Bolduc Block, 36 Main St., Conway, 16000642

Coos County

Noyes, George Washington, House, 2 Prospect Terrace, Gorham, 16000643

Grafton County

Chocorua Island Chapel, (Squam MPS), 40 Chocorua Island, Holderness, 16000644

Rockingham County

Drake Farm, 148 Lafayette Rd., North Hampton, 16000645

NORTH CAROLINA

Henderson County

Berkeley Mills Ballpark, 69 Balfour Rd., Hendersonville, 16000646

Stanly County

Richfield Milling Company, 303 S. Main St., Richfield, 16000647

WYOMING

Sublette County

Craig Cabin, Approx. 4 mi. E. of Dell & Jack Creeks, Bondurant, 16000648

Authority: 60.13 of 36 CFR part 60.

Dated: August 12, 2016.
J. Paul Loether,
Chief, National Register of Historic Places/National Historic Landmarks Program.

[FR Doc. 2016-21140 Filed 9-1-16; 8:45 am]

BILLING CODE 4312-51-P